NATIONAL FOUNDATION ON THE ARTS AND THE HUMANITIES

National Endowment for the Arts; Combined Arts Advisory Panel

Pursuant to Section 10(a)(2) of the Federal Advisory Committee Act (Public Law 92-463), as amended, notice is hereby given that four meetings of the Combined Arts Advisory Panel to the National Council on the Arts will be held at the Nancy Hanks Center, 1100 Pennsylvania Avenue, NW, Washington, DC, 20506 as follows:

Theater/Musical Theater: December 2-5, 2003, Room 730 (Challenge America/Access, Heritage and Preservation categories). A portion of this meeting, from 3 p.m. to 4:30 p.m. on December 4th, will be open to the public for policy discussion. The remaining portions of this meeting, from 9:30 a.m. to 6 p.m. on December 2nd, from 9:30 a.m. to 6:30 p.m. on December 3rd, from 9:30 a.m. to 3 p.m. and from 4:30 p.m. to 6:30 p.m. on December 4th, and from 10 a.m. to 4:30 p.m. on December 5th, will be closed.

Literature: December 8-9, 2003, Room 714 (Challenge America/Access. Heritage & Preservation categories). A portion of this meeting, from 11 a.m. to 12 p.m. on December 9th, will be open to the public for policy discussion. The remaining portions of this meeting, from 9 a.m. to 6 p.m. on December 8th, and from 9 a.m. to 11 a.m. and 12 p.m. to 4 p.m. on December 9th, will be closed.

Arts Education: December 8-12, 2003, Room 716 (Learning in the Arts for Children and Youth, Panel C—Dance, Multidisciplinary, Music and Opera). A portion of this meeting, from 12:30 p.m. to 1:30 p.m. on December 12th, will be open to the public for policy discussion. The remaining portions of this meeting, from 9 a.m. to 6 p.m. on December 8th—11th and from 9 a.m. to 12:30 p.m. and 1:30 p.m. to 2:45 p.m. on December 12th, will be closed.

Arts Education: December 15-19, 2003, Room 716 (Learning in the Arts for Children and Youth, Panel D-Folk and Traditional Arts, Local Arts Agencies, Multidisciplinary, and Presenting). A portion of this meeting, from 12:30 p.m. to 1:30 p.m. on December 19th, will be open to the public for policy discussion. The remaining portions of this meeting, from 9 a.m. to 6 p.m. on December 15th—18th and from 9 a.m. to 12:30 p.m. and 1:30 p.m. to 3:30 p.m. on December 19th, will be closed.

The closed meetings and portions of meetings are for the purpose of Panel review, discussion, evaluation, and recommendation on applications for financial assistance under the National Foundation on the Arts and the Humanities Act of 1965, as amended, including information given in confidence to the agency by grant applicants. In accordance with the determination of the Chairman of April 30, 2003, these sessions will be closed to the public pursuant to subsection (c) (6) of 5 U.S.C. 552b.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW, Washington, DC 20506, 202/682-5532, TDY-TDD 202/682-5496, at least seven (7) days prior to the meeting.

Further information with reference to this meeting can be obtained from Ms. Kathy Plowitz-Worden, Office of Guidelines & Panel Operations, National Endowment for the Arts, Washington, DC, 20506, or call 202/682-5691.

Dated: November 13, 2003.
Kathy Plowitz-Worden,
Panel Coordinator, Panel Operations, National Endowment for the Arts.

[FR Doc. 03-28880 Filed 11-18-03; 8:45 am]

BILLING CODE 7537-01-P